DEPARTMENT OF HOUSING AND URBAN DEVELOPMENT

[Docket No. FR-6141-N-01]

Notice of a Federal Advisory Committee Meeting; Manufactured Housing Consensus Committee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a teleconference meeting of the MHCC Regulatory Enforcement Subcommittee. The meeting is open to the public. The agenda provides an opportunity for citizens to comment on the business before the MHCC.

DATES: The meeting will be held on April 2, 2019, 1:00 p.m. to 4:00 p.m. Eastern Daylight Time (EDT). The teleconference numbers U.S. toll-free: 866-628-5137 and Participant Code: 4325435. To access the webinar, use the following link: https://zoom.us/j/268794585.

FOR FURTHER INFORMATION CONTACT: Teresa B. Payne, Acting Administrator, Office of Manufactured Housing Programs, Department of Housing and Urban Development, 451 7th Street SW, Room 9164, Washington, DC 20410, telephone (202) 708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. 10(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC are encouraged to register by or before Tuesday, April 2, 2019, by contacting Home Innovation Research Labs; Attention: Kevin Kauffman, 400 Prince Georges Blvd., Upper Marlboro, MD 20774, or email to mhcc@homeinnovation.com or call 1-888-602-4663. Written comments are encouraged. The MHCC strives to accommodate citizen comments to the extent possible within the time constraints of the meeting agenda. Advance registration is strongly encouraged. The MHCC will also provide an opportunity for public comment on specific matters before the Regulatory Enforcement Subcommittee.

Tentative Agenda

Tuesday, April 2, 2019

I. Call to Order and Roll Call

II. Opening Remarks—Subcommittee Chair & Designated Federal Officer (DFO)

III. Approval of minutes from November 28, 2016 Regulatory Enforcement Subcommittee meeting

IV. New Business

• Action Item 10: To review the energy standards in the MHCSS with specific focus on the RFI from DOE.

• HUD's Office of Policy Development and Research response to MHCC's Request to Submit a Document including Comparable Cost Figures Similar to EERE-2009-BT-BC-0021 [NODA Packages—Draft Results July 2018]

• Log 198: Revise definition of manufactured home in Section 3280.2.

V. Open Discussion

VI. Public Comment

VII. Wrap Up—DFO & AO

VIII. Adjourn

Dated: February 8, 2019.
Brian D. Montgomery,
Assistant Secretary for Housing—Federal Housing Commissioner.

[FR Doc. 2019-02355 Filed 2-13-19; 8:45 am]

BILLING CODE 4210-67-P